DEPARTMENT OF DEFENSE

Department of the Army

Availability for Non-Exclusive, Exclusive, or Partially Exclusive Licensing of U.S. Patent Application Concerning Method of Treating, Preventing or Inhibiting Central Nervous System (CNS) Injuries and Diseases

AGENCY: U.S. Army Medical Research and Materiel Command, DoD.

ACTION: Notice.

SUMMARY: In accordance with 37 CFR 404.6, announcement is made of the availability for licensing of U.S. Patent Application No. 09/839,905 entitled “Method of Treating, Preventing or Inhibiting Central Nervous System Injuries and Diseases” and filed 20 April 2001. Foreign rights are also available (PCT/US01/13043). The United States Government, as represented by the Secretary of the Army, has rights in this invention.

ADDRESSES: Commander, U.S. Army Medical Research and Materiel Command, Attn.: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-5034. Both at telefax (301) 619-5034.

SUPPLEMENTARY INFORMATION: Method of preventing, treating or both preventing and treating CNS injury, disease, neurotoxicity or memory deficit in a subject by the administration of at least one lipoic acid compound to the subject are disclosed. Examples of CNS injuries or disease include traumatic brain injury (TBI), posttraumatic epilepsy (PTE), stroke, cerebral ischemia, neuorodegenerative diseases of the brain such as Parkinson's Disease, Dementia Pugilisitica, Huntington's disease and Alzheimer's disease, brain injuries secondary to seizures which are induced by radiation, exposure to ionizing or iron plasma, nerve agents, cyanide, toxic concentrations of oxygen, neurotoxicity due to CNS malaria or treatment with antimalaria agents, and other CNS traumas. Examples of lipoic acid compounds include α-lipoic acid (α-LA), dihydrolipoic acid (DHLA), 2-(N,N-dimethylamine) ethylamido lipoate-HCL (LA-plus), the oxidized or reduced R- or S-isomers thereof, the metabolites of α-lipoic acid such as 6,8-bisnorlipoic acid and tetranorlipoic acid and analogs thereof. Also disclosed are pharmaceutical compositions and kits comprising at least one lipoic acid compound.

Luz D. Ortiz,
Army Federal Register Liaison Officer.

[FR Doc. 01-28243 Filed 11-8-01; 8:45 am]

BILLING CODE 3710-08-M